DEPARTMENT OF ENERGY

Federal Energy Regulatory Commission

Notice of Staff Attendance at North American Electric Reliability Corporation Reliability Issues Steering Committee Meeting and Industry Webinar

The Federal Energy Regulatory Commission hereby gives notice that members of the Commission and/or Commission staff may attend the following meetings:

North American Electric Reliability Corporation: Reliability Issues Steering Committee, WebEx

June 27, 2024 | 1:00 p.m.-4:00 p.m. Eastern

Further information regarding this meeting and how to join remotely may be found at: https://www.nerc.com/comm/RISC/Agenda%20Highlights%20and%20Minutes/RISC_Meeting_June_2024_Agenda_Package_ATTENDEES_ONLY.pdf.

North American Electric Reliability Corporation: Industry Webinar: Project 2023-02 Analysis and Mitigation of BES Inverter-Based Resource Performance Issues, WebEx

June 27, 2024 | 1:30 p.m.-2:30 p.m. Eastern

Further information regarding this meeting and how to join remotely may be found at: https://www.nerc.com/pa/Stand/Lists/stand/DispForm.aspx?ID=2378.

The discussions at the meetings, which are open to the public, may address matters at issue in the following Commission proceedings:

Docket No. RR24-2-000 North American Electric Reliability Corporation

For further information, please contact Leigh Anne Faugust (202) 502-6396 or leigh.faugust@ferc.gov.

Dated: June 20, 2024.
Debbie-Anne A. Reese,
Acting Secretary.

[FR Doc. 2024-14043 Filed 6-26-24; 8:45 am]

BILLING CODE 6717-01-P